DEPARTMENT OF THE INTERIOR

Bureau of Land Management

[20X L1109AF LLUTG010000 L14400000.FR0000.LXSSJ0730000; UTU-94337]

Notice of Realty Action: Legislated Conveyance of Public Lands in Uintah County, Utah

AGENCY: Bureau of Land Management, Interior.

ACTION: Notice of realty action.

SUMMARY: The Bureau of Land Management (BLM) proposes to convey a 790.02-acre parcel of public land known as the Ashley Springs Property located in Uintah County, Utah, to Uintah County. The parcel is to be conveyed to the County, without consideration, to be managed as open space to protect the watershed and underground karst system and aquifer. The land will be segregated from appropriation under the public land laws, including the mining laws and Mineral Leasing Act. Until completion of the conveyance, the BLM is no longer accepting land use applications affecting the identified public land. The temporary segregation will terminate upon issuance of a conveyance document.

DATES: The land will not be conveyed until at least July 20, 2020.

FOR FURTHER INFORMATION CONTACT: Roger Bankert, Vernal Field Manager, (435) 781-3416, rbankert@blm.gov. Persons who use a telecommunications device for the deaf (TDD) may call the Federal Relay Service (FRS) at 1 (800) 877-8339 to leave a message or question for the above individual. The FRS is available 24 hours a day, seven days a week. Replies are provided during normal business hours.

SUPPLEMENTARY INFORMATION: Section No. 1123 of the John D. Dingell, Jr. Conservation, Management, and Recreation Act of 2019, (Pub. L. 116-9), directs the BLM to convey the public lands to Uintah County, to be managed as open space to protect the watershed and underground karst system and aquifer. Mining or any form of mineral development on the conveyed land is prohibited. The County shall allow for non-motorized recreation access and no new roads may be constructed on the conveyed land.

Legal description:

Salt Lake Meridian, Utah

T. 3 S., R. 20 E.,

sec. 1;

sec. 12, N½NE¼ and NE¼NW¼.

The area described contains 790.02 acres.

Conveyance of the identified public lands will be subject to all valid existing rights of record and the following terms, conditions, and reservations:

1. A right-of-way thereon for ditches and canals constructed by authority of the United States, Act of August 30, 1890 (43 U.S.C. 945).

2. Right-of-way UTU-08796, for a culinary water pipeline granted to Vernal City, its successors and assigns, pursuant to the Act of 02-15-1901, 031 Stat. 0790, 43 U.S.C. 959.

3. Right-of-way UTU-61948 for a buried telephone cable granted to Central Utah Water Conservancy District, its successors and assigns, pursuant to the Act of 10-21-1976, 090 Stat. 2776, 43 U.S.C. 1761.

4. Right-of-way UTU-52124 for a water pipeline and diversion structure to Ashley Valley Water & Sewer Imp. Dist., its successors and assigns, pursuant to the Act of 10-21-1976, 090 Stat. 2776, 43 U.S.C. 1761.

5. Valid existing rights of record including, but not limited to, those documented on the BLM public land records at the time of conveyance.

6. A reversionary provision states that the title shall revert to the United States upon a finding, after notice and opportunity for a hearing, that Uintah County has not managed the land in accordance with the purposes stated in the aforementioned enabling legislation (Public Law 116-9). No portion of the land shall under any circumstance revert to the United States if any such portion has been used for solid waste disposal or for any other purpose which may result in the disposal, placement, or release of any hazardous substance.

The subject parcel of land will not be offered for conveyance prior to the 60-day publication of this notice of realty action.

Detailed information concerning the proposed land conveyance including the planning and environmental document is available for review at the BLM Vernal Field Office.

This realty action will become the final determination of the Department of the Interior not less than 60 days from May 19, 2020.

Authorities: Public Law 116-9 and the Federal Land Policy and Management Act of 1976.

Anita Bilbao,
Acting State Director.

[FR Doc. 2020-10737 Filed 5-18-20; 8:45 am]

BILLING CODE 4310-DQ-P